DEPARTMENT OF ENERGY

Federal Energy Regulatory Commission

Notice of Effectiveness of Exempt Wholesale Generator Status

| Docket Nos.
Revolution Wind, LLC | EG24-128-000
South Fork Wind, LLC | EG24-129-000
Al Pastor BESS LLC | EG24-130-000
Citadel BESS LLC | EG24-131-000
SMT Ironman BESS LLC | EG24-132-000
Widgeon Whistle BESS LLC | EG24-133-000
KCE TX 15, LLC | EG24-134-000
KCE TX 10, LLC | EG24-135-000
Ables Springs Solar, LLC | EG24-136-000
Ables Springs Storage, LLC | EG24-137-000
Franklin Solar LLC | EG24-138-000
Clearwater Wind III, LLC | EG24-139-000
IP Lumina BESS, LLC | EG24-140-000
IP Lumina II BESS, LLC | EG24-141-000
IP Radian BESS, LLC | EG24-142-000
Hardin Solar Energy III LLC | EG24-143-000
Groton BESS 1 LLC | EG24-144-000
Holden BESS 1 LLC | EG24-145-000
Paxton BESS 1 LLC | EG24-146-000
Groton BESS 2 LLC | EG24-147-000
Zier Solar, LLC | EG24-148-000
SBESS TX 5, LLC | EG24-149-000
SBESS TX 6, LLC | EG24-150-000
SBESS TX 7, LLC | EG24-151-000
Cottonwood Bayou Solar, LLC | EG24-152-000
Furry Creek Power Ltd | EG24-153-000
McNair Creek Hydro Limited Partnership | EG24-154-000
Cedar Springs Wind IV, LLC | EG24-155-000
Anticline Wind, LLC | EG24-156-000

Take notice that during the month of May 2024, the status of the above-captioned entities as Exempt Wholesale Generators became effective by operation of the Commission's regulations. 18 CFR 366.7(a) (2023).

Dated: June 10, 2024.
Debbie-Anne A. Reese,
Acting Secretary.

[FR Doc. 2024-13181 Filed 6-14-24; 8:45 am]

BILLING CODE 6717-01-P